NATIONAL AERONAUTICS AND SPACE ADMINISTRATION

[Notice (01-106)]

Aerospace Safety Advisory Panel (ASAP); Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Tuesday, September 25, 2001, 1 p.m. to 2 p.m. Eastern Daylight Time.

ADDRESSES: National Aeronautics and Space Administration Headquarters, 300 E Street, SW, Room 5W63, Washington, DC 20546.

FOR FURTHER INFORMATION CONTACT: Mr. David M. Lengyel, Aerospace Safety Advisory Panel Executive Director, Code Q-1, National Aeronautics and Space Administration, Washington, DC 20546, 202/358-0391, if you plan to attend.

SUPPLEMENTARY INFORMATION: This meeting will be conducted via telecon with Panel members and consultants. This meeting will be open to the public up to the seating capacity of the room (12). The agenda for the meeting is as follows: To discuss the Aerospace Safety Advisory Panel response to a National Aeronautics and Space Administration action to review the computer system redundancy approach for the International Space Station and compare it with the best practices used by other organizations that provide high availability computer systems to support human safety and protect high-value assets.

It is imperative that the meeting be held on this date to accommodate the scheduling priorities of the key participants. Visitors will be requested to sign a visitors register.

Beth M. McCormick,
Advisory Committee Management Officer, National Aeronautics and Space Administration.

[FR Doc. 01-22194 Filed 9-4-01; 8:45 am]

BILLING CODE 7510-01-P